FEDERAL COMMUNICATIONS COMMISSION

[CG Docket 03-123; DA 05-2050]

FCC Closes CC Docket No. 98-67, Addressing Telecommunications Relay Services (TRS); All Filings Addressing TRS Matters Should Be Filed In CG Docket No. 03-123

AGENCY: Federal Communications Commission.

ACTION: Notice.

SUMMARY: In this document, the Commission closes CC Docket No. 98-67, a docket for telecommunications relay services (TRS) addressing improved TRS services. Filings in CC Docket No. 98-67 will be incorporated into the current docket, CG Docket No. 03-123. Materials submitted in CC Docket No. 98-67 need not be resubmitted. This action is taken to further administrative efficiency and to reflect the new organizational structure of the Commission.

DATES: Effective September 30, 2005.

ADDRESSES: You may submit comments identified by [docket number and/or rulemaking number], by any of the following methods:

• Federal eRulemaking Portal: http://www.regulations.gov. Follow the instructions for submitting comments.

• Federal Communication's Commission's Web site: http://www.fcc.gov/cgb/ecfs/. Follow the instructions for submitting comments.

• People with Disabilities: Contact the FCC to request reasonable accommodations (accessible format documents, sign language interpreters, CART, etc.) by e-mail: FCC504@fcc.gov or phone (202) 418-0539 or TTY: (202) 418-0432.

For detailed instructions for submitting comments and additional information on the rulemaking process, see the SUPPLEMENTARY INFORMATION section of this document.

FOR FURTHER INFORMATION CONTACT: Dana Jackson, (202) 418-2247 (voice), (202) 418-7989 (TTY), or e-mail Dana.Jackson@fcc.gov.

SUPPLEMENTARY INFORMATION: This is a summary of the Commission's document DA 05-2050, released July 22, 2005. All filings addressing TRS matters should now be filed in CG Docket No. 03-123 only (unless responding to a particular document that instructs otherwise). Comments to TRS matters can be filed electronically in CG Docket No. 03-123 via “EFCS Express.” To access “ECFS Express,” go to www.fcc.gov, and click on the “ECFS Express” icon on the FCC's homepage. Select “Telecommunications Relay Service—Docket 03-123,” click “Continue,” and fill in the appropriate information. Please include your name in the body of your comment. More extensive comments may be filed using: (1) the Commission's Electronic Comment Filing System (ECFS), (2) the Federal Government's eRulemaking Portal, or (3) by filing paper copies. See Electronic Filing of Documents in Rulemaking Proceedings, 63 FR 24121, May 1, 1998.

• Electronic Filers: Comments may be filed electronically using the Internet by accessing the ECFS: http://www.fcc.gov/cgb/ecfs/ or the Federal eRulemaking Portal: http://www.regulations.gov. Filers should follow the instructions provided on the Web site for submitting comments.

• For ECFS filers, if multiple docket or rulemaking numbers appear in the caption of this proceeding, filers must transmit one electronic copy of the comments for each docket or rulemaking number referenced in the caption. In completing the transmittal screen, filers should include their full name, U.S. Postal Service mailing address, and the applicable docket or rulemaking number. Parties may also submit an electronic comment by Internet e-mail. To get filing instructions, filers should send an e-mail to ecfs@fcc.gov, and include the following words in the body of the message, “get form.” A sample form and directions will be sent in response. All comments received are viewable by the general public at any time through the Web site.

• Paper Filers: Parties who choose to file by paper must file an original and four copies of each filing. If more than one docket or rulemaking number appears in the caption of this proceeding, filers must submit two additional copies for each additional docket or rulemaking number. Filings can be sent by hand or messenger delivery, by commercial overnight courier, or by first-class or overnight U.S. Postal Service mail (although the Commission continues to experience delays in receiving U.S. Postal Service mail). All filings must be addressed to the Commission's Secretary, Office of the Secretary, Federal Communications Commission.

• The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

• Commercial overnight mail (other than U.S. Postal Service Express Mail and Priority Mail) must be sent to 9300 East Hampton Drive, Capitol Heights, MD 20743.

U.S. Postal Service first-class, Express, and Priority mail should be addressed to 445 12th Street, SW., Washington DC 20554.

Please note that any comments filed outside official comment periods established by the Commission will be associated with the appropriate proceeding, but will not necessarily be considered in the record. The full text of document DA 05-2050 and copies of any subsequently filed documents relating to this matter will be available for public inspection and copying during regular business hours at the FCC Reference Information Center, Portals II, 445 12th Street, SW., Room CY-A257, Washington, DC 20554. Document DA 05-2050 and copies of subsequently filed documents in this matter may also be purchased from the Commission's contractor at Portals II, 445 12th Street, SW., Room CY-B402, Washington, DC 20554. Customers may contact the Commission's contractor at their Web site www.bcpiweb.com or call 1-800-378-3160.

To request materials in accessible formats for people with disabilities (Braille, large print, electronic files, audio format), send an e-mail to fcc504@fcc.gov or call the Consumer & Governmental Affairs Bureau at (202) 418-0530 (voice) or (202) 418-0432 (TTY). Document DA 05-2050 can also be downloaded in Word and Portable Document Format (PDF) at http://www.fcc.gov/cgb.dro.

Federal Communications Commission.
Jay Keithley,
Deputy Bureau Chief, Consumer & Governmental Affairs Bureau.

[FR Doc. 05-18130 Filed 9-13-05; 8:45 am]

BILLING CODE 6712-01-P